ENVIRONMENTAL PROTECTION AGENCY

[FRL-9730-6]

National Environmental Justice Advisory Council; Notice of Charter Renewal

AGENCY: Environmental Protection Agency (EPA).

ACTION: Notice of Charter Renewal.

Notice is hereby given that the Environmental Protection Agency (EPA) has determined that, in accordance with the provisions of the Federal Advisory Committee Act (FACA), 5 U.S.C. App. 2, the National Environmental Justice Advisory Council (NEJAC) is a necessary committee which is in the public interest. Accordingly, NEJAC will be renewed for an additional two-year period. The purpose of the NEJAC is to provide advice and recommendations to the Administrator about issues associated with integrating environmental justice concerns into EPA's outreach activities, public policies, and decision about science, regulatory, enforcement, and compliance issues related to environmental justice. Inquiries may be directed to Victoria Robinson, NEJAC Designated Federal Officer, U.S. EPA, 1200 Pennsylvania Avenue NW., (Mail Code 2201A), Washington, DC 20460.

Dated: July 13, 2012.
Cynthia Giles,
Assistant Administrator, Office of Enforcement and Compliance Assurance.

[FR Doc. 2012-23588 Filed 9-25-12; 8:45 am]

BILLING CODE 6560-50-P